FEDERAL COMMUNICATIONS COMMISSION

47 CFR Part 73

[DA 10-280; MB Docket No. 09-190; RM-11566]

FM TABLE OF ALLOTMENTS, Stonewall, Texas

AGENCY: Federal Communications Commission.

ACTION: Final rule.

SUMMARY: The Audio Division denies the petition for rule making filed by Katherine Pyeatt, proposing the allotment of Channel 280A at Stonewall, Texas, as the community's first local transmission service. The reason for the denial is that the proposal is mutually exclusive with a prior-filed and cut-off application for FM Station KXXS that includes a proposal to substitute Channel 280A for Channel 223A at Burnet, Texas. It is Commission policy to protect applications against subsequently-filed and conflicting rule-making proposals. For that reason, the Audio Division denied the petition for rule making and terminated the proceeding without adoption of a final rule.

DATES: Effective 30 days after the date of publication in the Federal Register.

ADDRESSES: Federal Communications Commission, 445 12th Street, SW, Washington, DC 20554.

FOR FURTHER INFORMATION CONTACT: Deborah A. Dupont, Media Bureau, (202) 418-2180.

SUPPLEMENTARY INFORMATION: This is a synopsis of the Commission's Report and Order, MB Docket No. 09-190, adopted February 17, 2010, and released February 19, 2010. The full text of this Commission decision is available for inspection and copying during normal business hours in the FCC's Reference Information Center, Portals II, 445 12th Street, SW, Room CY-A257, Washington, DC 20554. The complete text of this decision also may be purchased from the Commission's duplicating contractor, Best Copy and Printing, Inc., 445 12th Street, SW, Room CY-B402, Washington, DC, 20554, (800) 378-3160, or via the company's website, www.bcpiweb.com <http://www.bcpiweb.com/>. The Report and Order is not subject to the Congressional Review Act. (The Commission, is, therefore, not required to submit a copy of this Report and Order to GAO, pursuant to the Congressional Review Act, see U.S.C. 801(a)(1)(A) because the proposed rule was dismissed.)

This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

List of Subjects in 47 CFR Part 73

Federal Communications Commission.
John A. Karousos,
Assistant Chief, Audio Division, Media Bureau.

[FR Doc. 2010-6385 Filed 3-24-10; 8:45 am]

BILLING CODE 6712-01-S